EXPORT-IMPORT BANK

[Public Notice 64]

Agency Information Collection Activities: Submission for OMB Review; Comment Request

AGENCY: Export-Import Bank of the U.S.

ACTION: Notice and request for comments.

SUMMARY: The Export-Import Bank of the United States (Ex-Im Bank) provides working capital guarantees to lenders. In assessing the creditworthiness of an applicant, Ex-Im Bank review EIB Form 84-1. This form provides information which allows the Bank to obtain legislatively required reasonable assurance of repayment, as well as to fulfill other statutory requirements. The form has had no change in content or purpose; it requires only a three-year extension.

DATES: Written comments should be received on or before June 28, 2004 to be assured of consideration.

ADDRESSES: Direct all requests for additional information to Pamela Bowers, Export-Import Bank of the U.S., 811 Vermont Avenue, NW., Washington, DC 20571 (202) 565-3792, or Pamela.bowers@exim.gov. Direct all comments to David Rostker, Office of Management and Budget, Office of Information and Regulatory Affairs, NEOB, Room 10202, Washington, DC 20503, (202) 395-3897.

SUPPLEMENTARY INFORMATION: Titles and Form Numbers: U.S. Small Business Administration, Export-Import Bank of the United States Joint Application for Working Capital Guarantee.

OMB Number: 3048-0003.

Form Number: EIB-SBA 84-1 (Revised 8/2000).

Type of Review: Extension of expiration date.

Annual Number of Respondents: 600.

Estimated Time Per Respondent: 2 Hours.

Annual Burden Hours: 1,200.

Frequency of Reporting or Use: Upon application for guarantees or working capital Loans advanced by the lenders to U.S. exporters.

Dated: May 24, 2004.
Solomon Bush,
Agency Clearance Officer.

BILLING CODE 6690-01-M

[FR Doc. 04-12092 Filed 5-27-04; 8:45 am]

BILLING CODE 6690-01-C